FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date Reissued
16126N | Motorvation Services Inc., PO Box 348, 100 Broad Street, Tonawanda, NY 14151 | December 8, 2002.
12190N | Reliable Overseas Shipping & Trading, Inc., 239-241 Kingston Avenue, Brooklyn, NY 11213 | November 16, 2002.
11170NF | Sage Freight Systems Inc., dba Sage Container Lines, 182-30 150th Road, Suite 108, Jamaica, NY 11413 | October 16, 2002.

Sandra L. Kusumoto,
Director, Bureau of Consumer Complaints and Licensing.

[FR Doc. 03-5919 Filed 3-11-03; 8:45 am]

BILLING CODE 6730-01-P